FEDERAL COMMUNICATIONS COMMISSION.

Notice of Public Information Collection Being Submitted to the Office of Management and Budget (OMB), Comments Requested

November 19, 2009.

SUMMARY: The Federal Communications Commission, as part of its continuing effort to reduce paperwork burden invites the general public and other Federal agencies to take this opportunity to comment on the following information collection(s), as required by the Paperwork Reduction Act of 1995, 44 U.S.C. 3501-3520. An agency may not conduct or sponsor a collection of information unless it displays a currently valid control number. No person shall be subject to any penalty for failing to comply with a collection of information subject to the Paperwork Reduction Act (PRA) that does not display a valid control number. Comments are requested concerning (a) whether the proposed collection of information is necessary for the proper performance of the functions of the Commission, including whether the information shall have practical utility; (b) the accuracy of the Commission's burden estimate; (c) ways to enhance the quality, utility, and clarity of the information collected; and (d) ways to minimize the burden of the collection of information on the respondents, including the use of automated collection techniques or other forms of information technology.

DATES: Persons wishing to comments on this information collection should submit comments on December 31, 2009. If you anticipate that you will be submitting comments, but find it difficult to do so within the period of time allowed by this notice, you should advise the contact listed below as soon as possible.

ADDRESSES: Direct all PRA comments to Nicholas A. Fraser, Office of Management and Budget (OMB), via fax at (202) 395-5167, or via the Internet at Nicholas_A._Fraser@omb.eop.gov and to Judith B. Herman, Federal Communications Commission (FCC). To submit your PRA comments by e-mail send them to: PRA@fcc.gov. To view a copy of this information collection request (ICR) submitted to OMB: (1) Go to web page: http://www.reginfo.gov/public/do/PRAMain, (2) look for the section of the web page called ”Currently Under Review”, (3) click on the downward-pointing arrow in the ”Select Agency” box below the ”Currently Under Review” heading, (4) select ”Federal Communications Commission” from the list of agencies presented in the ”Select Agency” box, (5) click the ”Submit” button to the right of the ”Select Agency” box, and (6) when the FCC list appears, look for the title of this ICR (or its OMB Control Number, if there is one) and then click on the ICR.

FOR FURTHER INFORMATION CONTACT: Judith B. Herman, OMD, 202-418-0214. For additional information about the information collection(s) send an e-mail to PRA@fcc.gov or contact Judith B. Herman, 202-418-0214.

SUPPLEMENTARY INFORMATION: OMB Control No: 3060-0531.

Title: Sections 101.1011, 101.1325(b), 101.1327(a), 101.527, 101.529, and 101.103 - Substantial Service Showing for Local Multipoint Distribution Service (LMDS), 24 GHz and Multiple Address System (MAS).

Form No.: N/A.

Type of Review: Revision of a currently approved collection.

Respondents: Business or other for-profit, not-for-profit institutions, and state, local or tribal government.

Number of Respondents: 1,474 respondents; 1,474 responses.

Estimated Time Per Response: 2 - 15 hours.

Frequency of Response: On occasion and once every 10 years reporting requirements, and third party disclosure requirement.

Obligation to Respond: Required to obtain or retain benefits. Statutory authority for this information collection is contained in 47 U.S.C. Sections 4(i), 303(c), 303(f), 303(g), 303(r), and 309(j) of the Communications Act of 1934, as amended.

Total Annual Burden: 4,261 hours.

Total Annual Cost Burden: $369,000.

Privacy Act Impact Assessment: N/A.

Nature and Extent of Confidentiality: There is no need for confidentiality. Respondents or applicants may request materials be withheld from public inspection under 47 CFR 0.459 of the Commission's rules.

Need and Uses: The Commission is requesting a revision of this information collection from the Office of Management and Budget (OMB) in order to obtain the full three year clearance from them. This revision includes certain collections that were formerly approved under different OMB control numbers. Upon OMB approval, OMB Control Number 3060-0531 will incorporate requirements formerly approved under OMB Control Numbers 3060-0947 and 3060-0963. The Commission will retain OMB Control Number 3060-0531 as the active number for the OMB inventory. This submission to the OMB seeks to renew the reporting and third party requirements imposed on respondents in the Local Multipoint Distribution Service (LMDS) pursuant to 47 CFR 101.103 101.1011 and to consolidate similar reporting requirements imposed on Multiple Address System (MAS) Economic Area (EA) licensees pursuant to 47 CFR 101.1325, 101.1327 and 24 GHz licensees pursuant to 47 CFR 101.527 and 101.529. There are no changes to these reporting and third party requirements, we are only consolidating the three collections into one comprehensive information collection.

The information is used by the Commission staff to satisfy requirements for licensees to demonstrate substantial service at the time of license renewal. Without this information, the Commission would not be able to carry out its statutory responsibilities. The third party disclosure coordination requirements are necessary to ensure that licensees do not cause harmful interference to each other.

Federal Communications Commission.
William F. Caton,
Deputy Secretary, Office of the Secretary,Office of Managing Director.

[FR Doc. E9-28610 Filed 11-30-09 8:45 am]

BILLING CODE 6712-01-S